INTERNATIONAL TRADE COMMISSION

[Investigation Nos. 731-TA-1034-1035 (Final)]

In the Matter of Certain Color Television Receivers From China and Malaysia; Notice of Commission Determination Not To Conduct a Portion of the Hearing in Camera

AGENCY: International Trade Commission.

ACTION: Commission determination not to close any part of the hearing to the public.

SUMMARY: The Commission has determined to deny the request of several producers and importers of certain color television receivers from China and Malaysia (”respondents”) to conduct a portion of its hearing in the above-captioned investigations scheduled for April 15, 2004, in camera. See Commission rules 201.13 and 201.36(b)(4) (19 CFR 201.13 and 201.36(b)(4)).

FOR FURTHER INFORMATION CONTACT: Marc A. Bernstein, Office of General Counsel, U.S. International Trade Commission, telephone 202-205-3087. Hearing-impaired individuals are advised that information on this matter may be obtained by contacting the Commission's TDD terminal on 202-205-1810.

SUPPLEMENTARY INFORMATION: The Commission believes it should conduct its business in public in all but the most unusual circumstances. The Commission has determined that, in light of the nature of these proceedings, it will be able to assess adequately all arguments raised by respondents without resorting to the extraordinary measure of an in camera hearing. Accordingly, the Commission has determined that the public interest would be best served by a hearing that is entirely open to the public. See 19 CFR 201.36(c)(1).

Authority: This notice is provided pursuant to Commission Rule 201.35(b) (19 CFR 201.35(b)).

Issued: April 13, 2004.
By order of the Commission.
Marilyn R. Abbott,
Secretary to the Commission.

[FR Doc. 04-8742 Filed 4-16-04; 8:45 am]

BILLING CODE 7020-02-P